DEPARTMENT OF COMMERCE

International Trade Administration

North Carolina State University; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-028.

Applicant: North Carolina State University, Raleigh, NC 27695-721 .

Instrument: Microarray System, Model QArraymini X2700.

Manufacturer: Genetix Ltd, United Kingdom.

Intended Use: See notice at 68 FR 38675, June 30, 2003.

Comments: None received.

Decision: Approved. No instrument of equivalent scientific value to the foreign instrument, for such purposes as it is intended to be used, is being manufactured in the United States.

Reasons: The foreign instrument provides: (1) Spotting of small (less than 0.25 μl) liquid DNA or protein samples at a density of over 7000 spots per cm² by using tungsten pins, (2) a low-friction print head using ball bearings for a minimal error rate, (3) source plate cooling at 4°C and (4) a high pressure washing system. The National Institutes of Health advises in its memorandum of July 21, 2003 that (1) These capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-20659 Filed 8-12-03; 8:45 am]

BILLING CODE 3510-DS-P